NEIGHBORHOOD REINVESTMENT CORPORATION

Annual Board of Directors Meeting

Time and Date: 2 p.m., Monday, May 20, 2002.

Place: Neighborhood Reinvestment Corporation, 1325 G Street, NW., Suite 800, Washington, DC 20005.

Status: Open.

CONTACT PERSON FOR MORE INFORMATION: Jeffrey T. Bryson, General Counsel/Secretary, 202-220-2372; jbryson@nw.org.

Agenda

I. Call to Order

II. Approval of Minutes:

February 28, 2002, Regular Meeting

III. Committee Appointments

IV. Election of Officers

V. Board Appointments

VI. Treasurer's Report

VII. Executive Director's Quarterly Management Report

VIII. NHSA Presentation

IX. Adjournment

Jeffrey T. Bryson,
General Counsel/Secretary.

[FR Doc. 02-12340 Filed 5-13-02; 4:33 pm]

BILLING CODE 7570-01-M